DEPARTMENT OF COMMERCE

International Trade Administration

A-533-838

Carbazole Violet Pigment 23 from India: Notice of Rescission of Antidumping Duty New Shipper Review

AGENCY: Import Administration, International Trade Administration, Department of Commerce.

EFFECTIVE DATE: May 9, 2006.

SUMMARY: In response to a request from Gharda Chemicals, Ltd., on January 27, 2006, the Department of Commerce published in the Federal Register a notice announcing the initiation of a new shipper review of the antidumping duty order on carbazole violet pigment 23 from India covering the period December 1, 2004, through November 30, 2005. On April 21, 2006, Gharda Chemicals, Ltd., withdrew its request for a new shipper review and, therefore, we are rescinding this review.

FOR FURTHER INFORMATION CONTACT: Dmitry Vladimirov or Minoo Hatten at (202) 482-0665 and (202) 482-1690, respectively, Office 5, AD/CVD Operations, Import Administration, International Trade Administration, U.S. Department of Commerce, 14th Street and Constitution Avenue, NW, Washington, DC 20230.

SUPPLEMENTARY INFORMATION:

Background

The Department of Commerce (the Department) published the antidumping duty order on carbazole violet pigment 23 from India on December 29, 2004 (69 FR 77988). On September 22, 2005, we received a timely request for a new shipper review of the antidumping duty order on carbazole violet pigment 23 from India from Gharda

Chemicals, Ltd. (Gharda). On January 17, 2006, Gharda submitted additional information to supplement its new shipper review request in response to our January 10, 2006, letter requesting that Gharda correct certain deficiencies in its new shipper review request. Pursuant to section 751(a)(2)(B) of the Tariff Act of 1930, as amended (the Act), and 19 CFR 351.214(d)(1), we initiated a new shipper review on January 27, 2006, for shipments of carbazole violet pigment 23 from India produced and exported by Gharda (71 FR 4569). Gharda withdrew its request for a new shipper review on April 21, 2006.

Rescission of New Shipper Review

Section 351.214(f)(1) of the Department's regulations provides that the Department may rescind a new shipper review if the party that requested the review withdraws its request for review within sixty days of the date of publication of the notice of initiation of the requested review. Although Gharda withdrew its request after the 60-day deadline, we find it reasonable to extend the deadline because we have not yet committed significant resources to the Gharda new shipper review. Specifically, we have not started calculating a margin for Gharda and we have not yet verified Gharda's data. Further, Gharda was the only party to request the review. Finally, we have not received any submissions opposing the withdrawal of the request for the review. For these reasons, we are rescinding the new shipper review of the antidumping duty order on carbazole violet pigment 23 from India with respect to Gharda in accordance with 19 CFR 351.214(f)(1).

Notification

As of the date of the publication of this rescission notice in the Federal Register, we will instruct U.S. Customs and Border Protection that importers will no longer have the option of posting a bond to fulfill security requirements for shipments of carbazole violet pigment 23 from India produced and exported by Gharda and entered, or withdrawn from warehouse, for consumption in the United States. We will issue assessment instructions within 15 days of the date of the publication of this notice and, in accordance with 19 CFR 351.212(c), we will instruct U.S. Customs and Border Protection to assess antidumping duties at the cash-deposit rate in effect at the time of entry for all shipments of carbazole violet pigment 23 from India produced and exported by Gharda and entered, or withdrawn from warehouse, for consumption during the period December 1, 2004, through November 30, 2005.

This notice also serves as the only reminder to parties subject to administrative protective order (APO) of their responsibility concerning the disposition of proprietary information disclosed under APO in accordance with 19 CFR 351.305(a)(3). Timely written notification of the return/destruction of APO material or conversion to judicial protective order is hereby requested. Failure to comply with the regulations and terms of an APO is a violation which is subject to sanctions.

This notice is published in accordance with section 751(a) of the Act and 19 CFR 351.214(f)(3).

Dated: May 3, 2006.
Stephen J. Claeys,
Deputy Assistant Secretary for Import Administration.

[FR Doc. E6-7042 Filed 5-8-06; 8:45 am]

BILLING CODE 3510-DS-S